DEPARTMENT OF THE INTERIOR

Bureau of Land Management

[CA-320/350/310-03-1610-DO]

Notice of Intent To Prepare an Environmental Impact Statement and Associated Resource Management Plans for Three Bureau of Land Management Field Offices in Northeast California and Northwest Nevada: The Eagle Lake Field Office; Alturas Field Office; the Surprise Field Office

AGENCY: Bureau of Land Management, Interior.

ACTION: Notice of intent to prepare an Environmental Impact Statement (EIS) and associated Resource Management Plans (RMP) for three Bureau of Land Management (BLM) field offices in Northeast California and Northwest Nevada: The Eagle Lake Field Office, the Alturas Field Office, and the Surprise Field Office.

SUMMARY: This document provides notice that the BLM intends to prepare an Environmental Impact Statement and associated Resource Management Plans for three BLM Field Offices located in Northeast California and Northwest Nevada: The Eagle Lake Field Office, the Alturas Field Office, and the Surprise Field Office. The three field offices encompass approximately 3 million acres of public lands, with the Eagle Lake Field Office headquartered in Susanville, California, the Alturas Field Office in Alturas, California, and the Surprise Field Office in Cedarville, California. New Resource Management Plans (RMPs) are needed because current management direction for the three million acres of public land managed by the Alturas, Eagle Lake, and Surprise Field Offices is contained in 18 separate land use plans and subsequent amendments. These plans, while providing a broad overview of goals, objectives, and needs associated with public lands, would benefit from updating. The RMPs will fulfill the needs and obligations set forth by the National Environmental Policy Act (NEPA), the Federal Land Policy and Management Act (FLPMA), and BLM management policies. The BLM will work collaboratively with interested parties to identify the management decisions that are best suited to local, regional, and national needs and concerns. The public scoping process will identify planning issues and develop planning criteria.

DATES: This notice initiates the public scoping process. Comments on preliminary issues and suggestions for potential planning criteria can be submitted in writing to the address listed below and will be accepted for 30 days following the publication of this notice in the Federal Register. Public meetings will be held throughout the plan scoping and preparation period. In order to ensure local community participation and input, open houses will be held in locations most closely affiliated with the public lands in the planning area. Probable locations include: Cedarville, CA; Alturas, CA; Susanville, CA; Reno, NV; and Redding, CA. These public meetings are scheduled to be held throughout the month of August 2003. Specific dates and meeting locations will be announced by BLM through news releases, direct mailings or other applicable means of public notification within 15 days of the event.

ADDRESSES: Scoping comments should be sent to Jeff Fontana, Public Affairs, Bureau of Land Management, Eagle Lake Field Office, 2950 Riverside Drive, Susanville, California 96130; FAX 530.257.4831. BLM will maintain a record of public documents related to the development of the RMPs at the Eagle Lake Field Office at the address listed above. Comments, including names and street addresses of respondents will be available for public review at the Eagle Lake Field Office in Susanville, California during regular business hours, 8 a.m. to 4 p.m., Monday through Friday, excluding Federal holidays, and may be published as part of the EIS. Individual respondents may request confidentiality. Individuals who wish to withhold their name or street address from public review or from disclosure under the Freedom of Information Act must state this prominently at the beginning of their written comment. Such requests will be honored to the extent allowed by law. All submissions from organizations and businesses, and from individuals identifying themselves as representatives or officials of organizations or businesses, will be available for public inspection in their entirety.

FOR FURTHER INFORMATION CONTACT: Jeff Fontana, Public Affairs, Bureau of Land Management, Eagle Lake Field Office, 2950 Riverside Drive, Susanville, California 96130, (530) 252-5332.

SUPPLEMENTARY INFORMATION: Preliminary issue areas and management concerns have been identified by BLM personnel in consultation with other agencies, individuals, and organizations and include: Management of special areas, riparian/wetlands health, upland ecosystems health, water quality and quantity, management and protection of sensitive, rare, threatened or endangered species, fire and fuels management, access and transportation management including OHV uses, Native American traditions and practices, social/economic considerations, acquisition/disposal of public lands, mineral extraction and energy development, communication and utility facility locations, and recreation use and visitor safety.

Disciplines involved in the planning process include specialists with expertise in wildlife and fisheries management, forestry, botany and vegetation community ecology, fire/fuels management and ecology, hydrology and watershed management, archeology, lands and realty, minerals and geology, grazing management, recreation management, sociology and economics.

Dated: June 17, 2003.
Timothy J. Burke,
Alturas Field Office Manager.

[FR Doc. 03-18562 Filed 7-21-03; 8:45 am]

BILLING CODE 4310-40-P